INTERNATIONAL TRADE COMMISSION

[Investigation Nos. 731-TA-1435-1440 (Preliminary)]

Acetone From Belgium, Korea, Saudi Arabia, Singapore, South Africa, and Spain

Determination

On the basis of the record ¹ developed in the subject investigations, the United States International Trade Commission (“Commission”) determines, pursuant to the Tariff Act of 1930 (“the Act”), that there is a reasonable indication that an industry in the United States is materially injured by reason of imports of acetone from Belgium, Korea, Singapore, South Africa, and Spain, provided for in subheading 2914.11.10 and 2914.11.50 of the Harmonized Tariff Schedule of the United States, that are alleged to be sold in the United States at less than fair value (“LTFV”).² In addition, the Commission terminates the antidumping duty investigation on acetone from Saudi Arabia.

¹ The record is defined in sec. 207.2(f) of the Commission's Rules of Practice and Procedure (19 CFR 207.2(f)).

² Acetone from Belgium, the Republic of Korea, the Kingdom of Saudi Arabia, Singapore, the Republic of South Africa, and Spain: Initiation of Less-Than-Fair-Value Investigations, 84 FR 9755 (March 18, 2019).

Commencement of Final Phase Investigation

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of an affirmative preliminary determination in the investigation under section 733(b) of the Act, or, if the preliminary determination is negative, upon notice of an affirmative final determination in that investigation under section 735(a) of the Act. Parties that filed entries of appearance in the preliminary phase of the investigations need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigations.

Background

On February 19, 2019, AdvanSix Inc., Parsippany, New Jersey, Altivia Petrochemicals, LLC, Haverhill, Ohio, and Olin Corporation, Clayton, Missouri filed a petition with the Commission and Commerce, alleging that an industry in the United States is materially injured by reason of LTFV imports of acetone from Belgium, Korea, Saudi Arabia, Singapore, South Africa, and Spain. Accordingly, effective February 19, 2019, the Commission, pursuant to section 733(a) of the Act (19 U.S.C. 1673b(a)), instituted antidumping duty Investigation Nos. 731-TA-1435-1440 (Preliminary).

Notice of the institution of the Commission's investigation and of a public conference to be held in connection therewith was given by posting copies of the notice in the Office of the Secretary, U.S. International Trade Commission, Washington, DC, and by publishing the notice in the Federal Register of February 28, 2019 (84 FR 6819). The conference was held in Washington, DC, on March 12, 2019, and all persons who requested the opportunity were permitted to appear in person or by counsel.

The Commission made these determinations pursuant to section 733(a) of the Act (19 U.S.C. 1673b(a)). It completed and filed its determinations in these investigations on April 5, 2019. The views of the Commission are contained in USITC Publication 4884 (April 2019), entitled Acetone from Belgium, Korea, Saudi Arabia, Singapore, South Africa, and Spain: Investigation Nos. 731-TA-1435-1440 (Preliminary).

By order of the Commission.
Issued: April 5, 2019.
Lisa Barton,
Secretary to the Commission.

[FR Doc. 2019-07153 Filed 4-10-19; 8:45 am]

BILLING CODE 7020-02-P